DEPARTMENT OF ENERGY

Federal Energy Regulatory Commission

[Project No. 14715-001]

Lock +™ Hydro Friends Fund XII; Notice of Surrender of Preliminary Permit

Take notice that Lock +™ Hydro Friends Fund XII, permittee for the proposed Hepburn Street Dam Hydroelectric Project, has requested that its preliminary permit be terminated. The permit was issued on February 10, 2016, and would have expired on January 31, 2019.¹ The project would have been located on West Branch of the Susquehanna River, near Williamsport, Lycoming County, Pennsylvania.

¹ 154 FERC ¶ 62,094 (2016).

The preliminary permit for Project No. 14715 will remain in effect until the close of business, February 9, 2018. But, if the Commission is closed on this day, then the permit remains in effect until the close of business on the next day in which the Commission is open.² New applications for this site may not be submitted until after the permit surrender is effective.

² 18 CFR 385.2007(a)(2) (2017).

Dated: January 10, 2018.
Kimberly D. Bose,
Secretary.

[FR Doc. 2018-00747 Filed 1-17-18; 8:45 am]

BILLING CODE 6717-01-P